DEPARTMENT OF ENERGY

Federal Energy Regulatory Commission

Combined Notice of Filings

Take notice that the Commission has received the following Natural Gas Pipeline Rate and Refund Report filings:

Filings Instituting Proceedings

Docket Numbers: RP25-62-000.

Applicants: Golden Triangle Storage, LLC.

Description: Compliance filing: Notice of Non-Material Change Compliance Oct 2024 to be effective N/A.

Filed Date: 10/11/24.

Accession Number: 20241011-5118.

Comment Date: 5 p.m. ET 10/23/24.

Docket Numbers: RP25-63-000.

Applicants: Perryville Gas Storage LLC.

Description: § 4(d) Rate Filing: Perryville Tariff—Revised Contact Information to be effective 11/11/2024.

Filed Date: 10/11/24.

Accession Number: 20241011-5147.

Comment Date: 5 p.m. ET 10/23/24.

Docket Numbers: RP25-64-000.

Applicants: Pine Prairie Energy Center, LLC.

Description: § 4(d) Rate Filing: Pine Prairie Tariff—Revised Contact Information to be effective 11/11/2024.

Filed Date: 10/11/24.

Accession Number: 20241011-5169.

Comment Date: 5 p.m. ET 10/23/24.

Docket Numbers: RP25-65-000.

Applicants: Natural Gas Pipeline Company of America LLC.

Description: § 4(d) Rate Filing: Non-Conforming Negotiated Rate Agreement Filing-Tenaska Marketing Ventures to be effective 10/28/2024.

Filed Date: 10/11/24.

Accession Number: 20241011-5171.

Comment Date: 5 p.m. ET 10/23/24.

Docket Numbers: RP25-66-000.

Applicants: SG Resources Mississippi, L.L.C.

Description: § 4(d) Rate Filing: SG Resources Mississippi—Revised Contact Information to be effective 11/11/2024.

Filed Date: 10/11/24.

Accession Number: 20241011-5193.

Comment Date: 5 p.m. ET 10/23/24.

Docket Numbers: RP25-67-000.

Applicants: Southeast Supply Header, LLC.

Description: § 4(d) Rate Filing: Southern Co NRA—Contract No. Conversion to be effective 10/1/2024.

Filed Date: 10/15/24.

Accession Number: 20241015-5206.

Comment Date: 5 p.m. ET 10/28/24.

Docket Numbers: RP25-68-000.

Applicants: Iroquois Gas Transmission System, L.P.

Description: § 4(d) Rate Filing: 10.15.24 Negotiated Rates—Emera Energy Services, Inc. R-2715-81 to be effective 11/1/2024.

Filed Date: 10/15/24.

Accession Number: 20241015-5229.

Comment Date: 5 p.m. ET 10/28/24.

Docket Numbers: RP25-69-000.

Applicants: Iroquois Gas Transmission System, L.P.

Description: § 4(d) Rate Filing: 10.15.24 Negotiated Rates—Emera Energy Services, Inc. R-2715-84 to be effective 11/1/2024.

Filed Date: 10/15/24.

Accession Number: 20241015-5230.

Comment Date: 5 p.m. ET 10/28/24.

Docket Numbers: RP25-70-000.

Applicants: Iroquois Gas Transmission System, L.P.

Description: § 4(d) Rate Filing: 10.15.24 Negotiated Rates—Emera Energy Services, Inc. R-2715-80 to be effective 11/1/2024.

Filed Date: 10/15/24.

Accession Number: 20241015-5231.

Comment Date: 5 p.m. ET 10/28/24.

Docket Numbers: RP25-71-000.

Applicants: Iroquois Gas Transmission System, L.P.

Description: § 4(d) Rate Filing: 10.15.24 Negotiated Rates—Emera Energy Services, Inc. R-2715-85 to be effective 11/1/2024.

Filed Date: 10/15/24.

Accession Number: 20241015-5232.

Comment Date:5 p.m. ET 10/28/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-1114-001.

Applicants: Stagecoach Pipeline & Storage Company LLC.

Description: Tariff Amendment: Amendment Filing to Proposed Tariff Language for OFO Update to be effective 11/1/2024.

Filed Date: 10/11/24.

Accession Number: 20241011-5176.

Comment Date: 5 p.m. ET 10/18/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 15, 2024.
Debbie-Anne A. Reese,
Secretary.

[FR Doc. 2024-24373 Filed 10-21-24; 8:45 am]

BILLING CODE 6717-01-P